DEPARTMENT OF HOUSING AND URBAN DEVELOPMENT

[Docket No. FR-5613-N-03]

Privacy Act of 1974; Notice of a New System of Records, Department of Housing and Urban Development—Veterans Affairs Supportive Housing (HUD-VASH), HUD/PIH.02

AGENCY: Office of the Chief Information Officer, HUD.

ACTION: Notification of the establishment of a new Privacy Act System of Records, Department of Housing and Urban Development—Veterans Affairs Supportive Housing System (HUD-VASH), HUD/PIH.02.

SUMMARY: Pursuant to the provision of the Privacy Act of 1974, as amended (5 U.S.C. 552a), the Department of Housing and Urban Development (HUD) is providing notice of its intent to establish a new system of records, Department of Housing and Urban Development—Veterans Affairs Supportive Housing System (HUD-VASH), HUD/PIH.02.

DATES: Effective Date: This proposal shall become effective, without further notice, June 1, 2012, unless comments are received during or before this period which would result in a contrary determination.

Comments Due Date: June 1, 2012.

ADDRESSES: Interested persons are invited to submit comments regarding this notice to the Rules Docket Clerk, Office of General Counsel, Department of Housing and Urban Development, 451 Seventh Street SW., Room 10276, Washington, DC 20410-3000. Communications should refer to the above docket number and title. FAX comments are not acceptable. A copy of each communication submitted will be available for public inspection and copying between 8:00 a.m. and 5:00 p.m. weekdays at the above address.

FOR FURTHER INFORMATION CONTACT: Inquiries pertaining to Privacy Act records, contact Harold Williams, Acting Chief Privacy Officer, telephone number (202) 402-8087, 451 Seventh Street SW., Room 4156, Washington, DC 20410. Regarding program related inquiries contact Nicole Faison, Program Advisor, telephone number (202) 475-7963, 451 Seventh Street SW., Room PCFL1, Washington, DC 20410, for the Office of Public and Indian Housing (PIH): Real Estate Assessment Center. [The above telephone numbers are not toll free numbers.] A telecommunications device for hearing- and speech-impaired persons (TTY) is available by calling the Federal Information Relay Service's toll-free telephone number (800) 877-8339.

SUPPLEMENTARY INFORMATION: Pursuant to the Privacy Act of 1974 (5 U.S.C. 552a), as amended, notice is given that HUD proposes to establish a new system of records identified as the Housing and Urban Development—Veterans Affairs Supportive Housing System (HUD-VASH). Pursuant to the Privacy Act of 1974, as amended (5 U.S.C. 552a(e)(4)), and 5 U.S.C. 552a(e)(11), the system report was submitted to the Office of Management and Budget (OMB), the Senate Committee on Homeland Security and Governmental Affairs, and the House Committee on Government Reform pursuant to Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: April 25, 2012.
Jerry E. Williams,
Chief Information Officer.

HUD/PIH.02

SYSTEM NAME:

Housing and Urban Development—Veterans Affairs Supportive Housing System (HUD-VASH).

SYSTEM LOCATIONS:

The files will be maintained at the following locations: U.S. Department of Housing and Urban Development, 451 Seventh Street SW., Washington, DC 20410; and on servers located in Charleston, WV. The servers are maintained by HUD's contractor, Information Technology Services (HITS) and HUD's information technology partners: Electronic Data Services (EDS) and Lockheed Martin.

AUTHORITY FOR MAINTENANCE OF THE SYSTEM:

The U.S. Housing Act of 1937, as amended, 42 U.S.C. 1437 et seq; Title VI of the Civil Rights Act of 1962 (42 U.S.C. 2000d); The Fair Housing Act (42 U.S.C. 3601-3619); The Housing and Community Development Act of 1981, Public Law 97-35, 85 stat., 348,408; The Housing and Community Development Act of 1987, 42 U.S.C. 3543; The National Housing Act: Research and Demonstrations, 12 U.S.C. 170z-1; and Establishment of Department, 42 U.S.C. 3532(b).

PURPOSES:

HUD-VASH will serve as a national repository of information related to PHAs, HUD-assisted families, HUD-assisted properties for the purpose of monitoring and evaluating the effectiveness of the HUD-VASH program. Through a collaborative effort, HUD and the Department of Veteran Affairs (VA) seek to advance the goals of the nation's federal strategic plan to prevent and end homelessness of veterans through the collection, analysis, and reporting of quality and timely data on veterans' homelessness. HUD will use the data provided by VA to track a veteran's use of available HUD and VA resources to secure affordable rental housing; as well as monitor administration of the HUD-VASH program by Public Housing Agencies (PHAs) and PHA-hired management agents. HUD will compare VA-provided data related to the HUD-VASH program to data maintained in HUD's system of records, the Inventory Management System, also known as the Public and Indian Housing Information Center (PIC) (referred hereinafter as IMS/PIC), HUD/PIH.01 for the purpose of assisting HUD and VA with the following: (1) Reducing homelessness among the nation's veterans; (2) identifying and understanding the needs of homeless veterans and developing programs and services to address those needs; (3) effectively administering the HUD-VASH program by HUD and VA business partners; (4) monitoring and evaluating the HUD-VASH program; and 5) producing aggregate statistical data without any personal identifiers, precluding the use of this data to make decisions concerning the rights, benefits, or privileges of specific individuals, or providers of services with respect to assistance provided under the HUD-VASH program.

CATEGORIES OF INDIVIDUALS COVERED BY THE SYSTEM:

Families residing in a HUD-assisted property and/or receiving rental housing assistance via the HUD-VASH program administered by HUD, PHAs and PHA-hired management agents.

CATEGORIES OF RECORDS IN THE SYSTEM:

Records consist of the following information as reported to HUD by VA, PHAs and PHA-hired management agents.

A. The following information is provided to HUD by VA through a current Data Use Agreement, Computer Matching Agreement, or other authorizing document pursuant to the Federal Privacy Act (5 U.S.C. 552a, as amended):

1. General information including: Homeless Operational Management and Evaluation System (HOMES) start date, the name of the lease case manager, the primary VA Medical Center (VAMC) where the veteran is/has been seen; the secondary VAMC where the veteran is/has been seen (if applicable); and the date that the HUD-VASH entry form was completed;

2. Personally identifiable information (PII) of the veteran including: the veteran's name, social security number (SSN), date of birth, identification as to whether or not the veteran entered the HUD-VASH program, the date of HUD-VASH program entry by the veteran, the reason why the veteran did not enter the HUD-VASH program (if applicable), and the veteran's current address;

3. A HUD-VASH monthly status report including the following information: the veteran's voucher status, the PHA code, the date the referral package was forwarded to the PHA, the date the voucher was issued/denied by the PHA, the date the voucher was revoked or expired (if applicable), the date the veteran selected a home to occupy, the date of the housing quality inspection, the date the housing assistance payment was paid to the landlord, the date the housing assistance payment contract was signed, the date the veteran moved into HUD-VASH housing, the date the voucher was ported (if applicable), an indication of whether or not the veteran had contact with a HUD-VASH clinician for case management during the past 30 days, the veteran's housing arrangement and zip code during the reporting period, a description of the veteran's employment pattern in the past 30 days, an indication of whether or not the veteran received any money in the past 30 days, an indication of whether or not the veteran received any non-cash benefit during the past 30 days, an indication of whether or not the veteran has a representative payee or fiduciary, and the veteran's responses to a service satisfaction survey.

4. Exit information including: the date the veteran ended participation in the HUD-VASH program, the most important reason why the veteran ended participation in HUD-VASH case management, status of the veteran's HUD-VASH voucher, veteran's housing arrangement and zip code after ending participation in the HUD-VASH program, the name of the individual the veteran will be living with after ending participation in the HUD-VASH program, the veteran's arrangement for employment after ending participation in the HUD-VASH program, the veteran's arrangement for receipt of VA financial benefits (disability payments or other support) after ending participation in the HUD-VASH program; and whether or not the veteran received any money in the 30 days prior to ending participation in the HUD-VASH program.

B. The following information is provided to HUD by PHAs and PHA-hired management agents to HUD's existing system of records, IMS/PIC, HUD/PIH.01:

1. PHA information: agency name, HUD-assigned PHA code, and the HUD program type in which the family participates.

2. PHA point of contact information for individuals that work for, and access IMS/PIC and oversee the PHA's administration (i.e. Mayors, board members, managers, directors, etc.: individual's name, agency's physical address, agency's mailing address, agency's telephone numbers, email addresses for points of contact.

3. Action information: type of action (new admission, annual reexamination, interim reexamination, portability move-in, portability move-out, end of participation, other change of unit, Family Self Sufficiency/Welfare-to-Work (FSS/WTW) addendum only, annual reexamination searching, issuance of voucher, expiration of voucher, annual Housing Quality Standards (HQS) inspection, historical adjustment, and void); effective date of action, indication of correction of previous submitted information, type of correction, date family was admitted into a PIH rental assistance program, projected effective date of next reexamination of family income and/or composition, indication of whether or not the family is or has participated in the FSS program within the last year, identification of special Section 8 program, identification of other special HUD rental program(s) the family is participating in, and “PHA Use Only” fields which are used by PHAs for general administrative purposes or other uses as prescribed by HUD.

4. Family composition (which includes the following (PII) as reported by the family and verified by PHAs and PHA-hired management agents: last name, first name, middle initial, date of birth, age on effective date of action, sex, relationship to head of household, citizenship status, disability status, race, ethnicity, SSN, alien registration number, total number of household members, family subsidy status under the noncitizens rule, eligibility effective date, and former head of household's SSN.

5. Geographical and unit information:

i. Background at admission information as reported by the family: date family entered the waiting list, zip code before admission, whether or not the family was homeless at time of admission, whether or not the family qualifies for admission over the very low-income limit, whether or not the family is continuously assisted under the 1937 Housing Act, whether or not there is a HUD-approved income targeting disregard.

ii. Subsidized Unit information: unit number and street address, city, state and zip code in which the subsidized unit is located, whether or not the family's mailing address is the same address of the unit to be occupied by the family, family's mailing address (unit number and street address, city, state, and zip code) if different from the address of the subsidized unit, number of bedrooms, date the unit last passed HQS inspection, date of last annual HQS inspection, year the unit was built, and the structure type of the unit.

6. Family assets information, as reported by the family and verified by PHAs and PHA-hired management agents, which includes the type of asset, cash value of the asset, anticipated annual income derived from the asset, passbook rate, imputed asset income, and final asset income.

7. Family income information, as reported by the family and verified by PHAs and PHA-hired management agents, which includes the income sources, PHA income calculations, annual income derived from the income sources, income exclusion amount in accordance with HUD program requirements and annual income amount after deducting allowable income exclusions for each household member of the family, total household annual income, amounts of permissible deductions and other deductions to annual income in accordance with HUD program requirements, and amount of family adjusted annual income.

8. Total tenant payment (TTP), minimum rent amount, most recent TTP amount, and tenant rent calculation information in accordance with HUD requirements for the specific PIH rental assistance program the family is currently participating in.

9. Family Self-Sufficiency (FSS) and Welfare-to-Work (WTW) program information: type of self-sufficiency program the family is participating in, FSS report category, FSS effective date, PHA code of PHA administering FSS contract, WTW report category, WTW effective date of action, PHA code of PHA that issued the WTW voucher, PHA code of PHA counting the family as enrolled in its WTW voucher program if different than the PHA Code of PHA that issued the WTW voucher; and general information pertaining to the employment status of the head of household, date current employment began, type of employment benefits head of household receives from employer, number of years of school completed by the head of household, type of other federal assistance received by the family, number of children receiving childcare services, and optional information related to the type of family services the family needs, whether or not the need was met during participation in the FSS or WTW program, and the name of the service provider; FSS contract, account and exit information; and WTW voucher program information.

ROUTINE USES OF RECORDS MAINTAINED IN THE SYSTEM, INCLUDING CATEGORIES OF USERS AND PURPOSES OF SUCH USES:

In addition to those disclosures generally permitted pursuant to 5 U.S.C. 552a(b) of the Privacy Act, other routine uses include:

Categories of users and routine uses of information contained in HUD-VASH may include:

1. To a Congressional office from the record of an individual in response to an inquiry from that Congressional office made at the request of the individual to whom the records pertain;

2. To the National Archives and Records Administration (NARA) for use in its records management inspections and its role as an Archivist;

3. To the Department of Justice (DOJ) when seeking legal advice or for use in any proceeding, or in preparation for any proceeding, when HUD or any component thereof disclose information to DOJ during the course of an investigation to the extent necessary to obtain information pertinent to the investigation under applicable HUD administered rental housing assistance programs;

4. To third parties during the course of a law enforcement investigation to the extent necessary to obtain information pertinent to the investigation;

5. To any federal, state, and local agency pursuant to an approved computer matching agreement (e.g., state agencies administering the state's unemployment compensation laws, state welfare and food stamp agencies, U.S. Department of Health and Human Services, and U.S. Social Security Administration): To verify the accuracy and completeness of the data provided, to verify eligibility or continued eligibility in HUD's rental assistance programs, to identify and recover improper payments in accordance with the Improper Payments Elimination and Recovery Act of 2010 (Pub. L. 111-204, 31 U.S.C. 3301 note and 31 U.S.C. 3321 note), and to aid in the identification of tenant errors, fraud, and abuse in HUD rental assistance programs through HUD's routine tenant income computer matching programs in accordance with the Federal Privacy Act and Computer Matching and Privacy Protection Act;

6. To individuals under contract to HUD or under contract to another agency with funds provided by HUD: For the preparation of studies and statistical reports directly related to the management of HUD's rental assistance programs, to support quality control for tenant eligibility efforts requiring a random sampling of tenant files to determine the extent of administrative errors, eligibility determinations, etc., (individuals provided information under this routine use is subject to Privacy Act requirements and limitation on disclosures as are applicable to HUD officials and employees);

7. To PHAs and PHA-hired management agents, and auditors of HUD rental housing assistance programs: To verify program compliance, continued eligibility and the amount of housing assistance received;

8. To PHAs and PHA-hired management agents of HUD rental housing assistance programs: To identify and resolve discrepancies in tenant and program data;

9. To researchers affiliated with academic institutions, with not-for-profit organizations, or with federal, state, or local governments, or to policy researchers: Without personally identifiable information: For the performance of research and statistical activities on housing and community development issues (individuals provided information under this routine use is subject to Privacy Act requirements and limitation on disclosures as are applicable to HUD officials and employees);

10. To HUD contractors, independent public auditors and accountants, and PHAs: For the purpose of conducting oversight and monitoring of program operations to determine compliance with applicable laws and regulations, and financial reporting requirements (individuals provided information under this routine use is subject to Privacy Act requirements and limitation on disclosures as are applicable to HUD officials and employees);

11. To the U.S. Department of Veterans Affairs (VA) for statistical analysis to advance the goals of the nation's federal strategic plan to prevent and end homelessness through the collection, analysis, and reporting of quality and timely data on veterans homelessness to assist VA with the establishment and/or verification of the following: Reducing homelessness among our nation's veterans; identify and understand the needs of homeless veterans and to develop programs and services to address those needs; effective administration of the HUD-Veterans Affairs Supportive Housing (VASH) program by HUD and VA business partners; HUD-VASH program monitoring and evaluation; and the production of aggregate statistical data without any personal identifiers, which will not be used to make decisions concerning the rights, benefits, or privileges of specific individuals, or providers of services with respect to assistance provided under the HUD-VASH program;

12. To the U.S. Department of Veterans Affairs (VA), under approved computer matching agreement, or data sharing agreement pursuant to a Presidential Executive Order (EO) mandate and in accordance with the Federal Privacy Act and Computer Matching and Privacy Protection Act: To identify and recover overpayments (improper payments) of rental assistance, determine compliance with program requirements by program administrators and participants of HUD rental housing assistance programs, deter future abuses in rental housing assistance programs, reduce administrative costs associated with manual program evaluation and monitoring efforts, and ensure that only eligible participants receive rental assistance in the correct amount;

13. To any Federal agency pursuant to statutory or regulatory authority in accordance with the provisions of the U.S. Federal Privacy Act (5 USC 552a) and Computer Matching and Privacy Protection Act; and,

14. To appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and (c) the disclosure made to such agencies, entities, and persons is reasonably necessary to assist in connection with HUD's efforts to respond to the suspected or confirmed compromise and prevent, minimize, or remedy such harm for purposes of facilitating responses and remediation efforts in the event of a data breach.

POLICIES FOR STORING, RETRIEVING, AND DISPOSING OF SYSTEM RECORDS

STORAGE:

Records are stored manually and electronically in PHA office automation equipment and paper files, respectively. Records are also stored on HUD computer servers for HUD and PHA staff to access via the Internet. HUD's information technology partners, Electronic Data Services (EDS) and Lockheed Martin maintain disk and backup files of IMS/PIC data.

RETRIEVABILITY:

An individual's records may be retrieved by computer search of indices by the individual's name, date of birth, and/or SSN. PHA records may be retrieved by PHA Code, User ID, and/or IMS/PIC user's last name. Note: A user's search capability is limited to only those program participants within the user's jurisdiction and assigned to his or her User ID.

SAFEGUARDS:

Records have limited access to those persons whose official duties require the use of such records. Computer files and printed listings are maintained in locked cabinets. Background screening, limited authorization and access with access limited to authorize personnel and authorize users. User's access, updates access, read-only access, and approval access based on the user's role and security access level.

RETENTION AND DISPOSAL:

Electronic records are maintained and destroyed in accordance with requirements of the HUD Records Disposition Schedule, 2225-6. In accordance with 24 CFR 908.101 and HUD record retention requirements at 24 CFR 85.42, PHAs are required to retain at least three years' worth of IMS/PIC data either electronically or in paper form.

SYSTEM MANAGERS AND ADDRESSES:

Office of Public and Indian Housing (PIH), Real Estate Assessment Center (REAC) Nicole Faison, HUD-VASH Business Owner. Department of Housing and Urban Development, 451 Seventh Street SW., Room PCFL1, Washington, DC 20410; John D. Strzalka, HUD-VASH System Project Manager. Department of Housing and Urban Development, 451 Seventh Street SW., Room PCFL2, Washington, DC 20410.

NOTIFICATION AND RECORD ACCESS PROCEDURES:

Individuals seeking to determine whether this system of records contains information about them, or those seeking access to such records, should address inquiries to Harold Williams, Acting Chief Privacy Officer, Department of Housing and Urban Development, 451 Seventh Street SW., Room 4156, Washington, DC 20410. Provide verification of your identity by providing two proofs of official identification. Your verification of identity must include your original signature and must be notarized.

CONTESTING RECORD PROCEDURES:

Since individual information reported in HUD-VASH is submitted to HUD by VA and PHAs based on information collected directly from the individual, individuals must contact the VA and PHA, respectively, to request correction of any individual-supplied information reported incorrectly by the VA or PHA. HUD does not have the ability to modify VA or PHA-reported data within HUD-VASH. With respect to any HUD determination based on HUD-VASH data, the procedures for appealing HUD's initial determination records are outlined in 24 CFR Part 16.

CONTESTING RECORD PROCEDURES:

The Department's rules for contesting the contents of records and appealing initial denials, by the individual concerned, appear in 24 CFR part 16. If additional information or assistance is needed, it may be obtained by contacting:

i. Contesting contents of records: U.S. Department of Housing and Urban Development, Chief Privacy Officer, 451 Seventh Street SW., Washington, DC 20410;

ii. Appeals of initial HUD determinations: In relation to contesting contents of records, the HUD Departmental Privacy Appeals Officers, Office of General Counsel, Department of Housing and Urban Development, 451 Seventh Street SW., Washington, DC 20410.

RECORD SOURCE CATEGORIES:

HUD-VASH receives data from HUD contractors, PHAs, PHA-hired management agents, the Department of Veteran Affairs, and other federal, state and local agencies. The HUD-VASH data reported by PHAs and PHA-hired management agents is electronically transmitted to IMS/PIC using PHA-owned software or via HUD's Family Reporting Software (FRS) and subsequently imported into HUD-VASH.

EXEMPTIONS FROM CERTAIN PROVISIONS OF THE ACT:

None.

[FR Doc. 2012-10578 Filed 5-1-12; 8:45 am]

BILLING CODE 4210-67-P